ELECTION ASSISTANCE COMMISSION

Progress Report; Standardized Format To Be Used for Both Interim and Final Progress Reporting; Correction

AGENCY: Election Assistance Commission.

ACTION: Notice; correction.

SUMMARY: The U.S. Election Assistance Commission published a document in the Federal Register on August 26, 2020, concerning a Progress Report; Standardized Format To Be Used for Both Interim and Final Progress Reporting.

FOR FURTHER INFORMATION CONTACT: Kinza Ghaznavi, Telephone: (202) 400-1086, Email: kghaznavi@eac.gov.

SUPPLEMENTARY INFORMATION:

Correction

In the Federal Register on August 26, 2020, in FR Doc. 2020-18622, on page 52583 in the first column, correct the Dates caption to read:

DATES: Comments should be submitted by 5 p.m. on Friday, September 25th, 2020.

Amanda Joiner,
Associate Counsel, U.S. Election Assistance Commission.

[FR Doc. 2020-19672 Filed 9-3-20; 8:45 am]

BILLING CODE P